DEPARTMENT OF COMMERCE

Bureau of the Census

Census 2000 Evaluation of the Multiple Response Resolution

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before May 1, 2000.

ADDRESSES: Direct all written comments to Linda Engelmeier, Departmental Forms Clearance Officer, Department of Commerce, Room 5033, 14th and Constitution Avenue, NW, Washington, DC 20230 (or via the Internet at LEngelme@doc.gov).

FOR FURTHER INFORMATION CONTACT: Requests for additional information or copies of the information collection instrument(s) and instructions should be directed to David Phelps, Bureau of the Census, PRED, Mailstop 9200, Washington, DC 20233-0001, (301)457-4142.

SUPPLEMENTARY INFORMATION:

I. Abstract

To make it easier for people to be counted in the Census 2000, the Census Bureau will provide several ways for households to respond. In addition to receiving responses through mailed questionnaires and enumerator operations, the Census Bureau will enable the public to initiate responses on forms available in public places, by telephone, or via the Internet.

While multiple methods of responding increases the opportunities for people to be counted, these methods also increase the likelihood of receiving multiple responses for some housing units. The Census Bureau has devised an automated process to manage this situation, called multiple response resolution.

To evaluate this process, we will conduct a survey of those housing units which were affected by the multiple response resolution process. We will conduct this survey shortly after Census 2000 and ask questions about the residency status of the persons that were listed on the multiple responses for that housing unit on Census Day (April 1, 2000). All information collected will be pertinent to verifying the accuracy of the multiple response resolution process.

The sample will consist of approximately 7,500 housing units with the household being contacted via a personal visit in late October through early November, 2000. We will use the data collected to determine how well the multiple response resolution process functioned.

II. Method of Collection

Specially trained interviewers will administer the survey using a paper questionnaire designed for this evaluation.

III. Data

OMB Number: Forthcoming.

Form Number: Forthcoming.

Type of Review: Regular Submission.

Affected Public: Those persons who reside at a housing unit for which the Bureau received more than one response.

Estimated Number of Respondents: 7,500.

Estimated Time Per Response: 12 minutes.

Estimated Total Annual Burden Hours: 1,500.

Estimated Total Annual Cost: There is no cost to the respondent other than the time taken to complete the survey.

Respondent's Obligation: Voluntary.

Legal Authority: Title XIII United States Code, Section 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 24, 2000.
Linda Engelmeier,
Departmental Forms Clearance Officer, Office of the Chief Information Officer.

[FR Doc. 00-4872 Filed 2-29-00; 8:45 am]

BILLING CODE 3510-07-P